DEPARTMENT OF ENERGY

Office of International Regimes and Agreements; Proposed Subsequent Arrangement

AGENCY: Department of Energy.

ACTION: Notice of proposed subsequent arrangement.

SUMMARY: This notice is being issued under the authority of Section 131 of the Atomic Energy Act of 1954, as amended (42 U.S.C. 2160). The Department is providing notice of a proposed “subsequent arrangement” under the Agreement for Cooperation in the Peaceful Uses of Nuclear Energy between the United States and Argentina.

This subsequent arrangement requests to downblend material subject to an earlier subsequent arrangement—published in the Federal Register July 9, 2004 (69 FR 41460)—to a different level than previously approved. Under the 2004 subsequent arrangement, Comision Nacional de Energia Atomica (CNEA) was approved to downblend material from 89.79% enriched into low-enriched uranium (LEU). Under a contract with DOE's Global Threat Reduction Initiative program, CNEA has submitted the attached request to downblend 304 g of that material to 58% weight of isotope U²³⁵ rather than to LEU as originally approved. The material will be fabricated into test plates in Argentina and sent to Idaho National Laboratory for testing and irradiation. The material will remain in the United States after irradiation.

In accordance with Section 131 of the Atomic Energy Act of 1954, as amended, we have determined that this subsequent arrangement will not be inimical to the common defense and security.

This subsequent arrangement will take effect no sooner than fifteen days after the date of publication of this notice.

For the Department of Energy.
Richard S. Goorevich,
Director, Office of International Regimes and Agreements.

[FR Doc. E8-11432 Filed 5-20-08; 8:45 am]

BILLING CODE 6450-01-P